DEPARTMENT OF JUSTICE

Notice of Lodging Proposed Consent Decree

In accordance with Departmental Policy, 28 CFR 50.7, notice is hereby given that a proposed Consent Decree in United States v. Russell Kirk, et al., Civil No. 4:18-cv-00371-JEG-HCA, was lodged with the United States District Court for the Southern District of Iowa on December 28, 2020.

This proposed Consent Decree concerns a complaint filed by the United States against Russell Kirk, Breaking Gate, LLC, and Ottumwa Northshore, LLC, pursuant to 33 U.S.C. 1311(a), to obtain injunctive relief from and impose civil penalties against the Defendants for violating the Clean Water Act by discharging pollutants without a permit into waters of the United States. The proposed Consent Decree resolves these allegations by requiring the Defendants to restore impacted areas, perform mitigation, and pay a civil penalty.

The Department of Justice will accept written comments relating to the proposed Consent Decree for thirty (30) days from the date of publication of this Notice. Please address comments to Patrick R. Jacobi, Environmental Defense Section, Denver Place Building, 999 18th Street, Suite 370—South Terrace, Denver, CO 80202, and refer to United States v. Russell Kirk, et al., DJ #90-5-1-1-21241.

The proposed Consent Decree may be examined at the Clerk's Office, United States District Court for the Southern District of Iowa, 123 East Walnut Street, Des Moines, IA 50309. In addition, the proposed Consent Decree may be examined electronically at http://www.justice.gov/enrd/consent-decrees.

Cherie Rogers,
Assistant Section Chief, Environmental Defense Section, Environment and Natural Resources Division.

[FR Doc. 2020-29039 Filed 12-31-20; 8:45 am]

BILLING CODE P